DEPARTMENT OF THE INTERIOR

National Park Service

[NPS-WASO-NRNHL-DTS#-36934; PPWOCRADI0, PCU00RP14.R50000]

National Register of Historic Places; Notification of Pending Nominations and Related Actions

AGENCY: National Park Service, Interior.

ACTION: Notice.

SUMMARY: The National Park Service is soliciting electronic comments on the significance of properties nominated before November 4, 2023, for listing or related actions in the National Register of Historic Places.

DATES: Comments should be submitted electronically by December 7, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 4, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

FLORIDA

Palm Beach County

Pearl City National Register Historic District bounded by NE 15th Terr. N Federal Hwy., NE 10th St. & N Dixie Hwy., Boca Raton, SG100009609

MISSISSIPPI

Adams County

Beulah Missionary Baptist Church (Civil Rights Resources of Natchez and Adams County, Mississippi MPS), 710 Beulah Street, Natchez, MP100009623

Shaw-Nosser House (Civil Rights Resources of Natchez and Adams County, Mississippi MPS), 207 Linton Avenue, Natchez, MP100009624

Rose Hill Missionary Baptist Church (Civil Rights Resources of Natchez and Adams County, Mississippi MPS), 607½ Madison Street, Natchez, MP100009625

NORTH CAROLINA

Buncombe County

Walton Street Park and Pool, 570 Walton Street, Asheville, SG100009617

Forsyth County

Winston Lake Golf Course, 3535 Winston Lake Road, 2790 New Walkertown Road, Winston-Salem, SG100009618

Mecklenburg County

Ervin Building, 4037 East Independence Boulevard, Charlotte, SG100009619

Orange County

Ridge Road School, 2705 Coleman Loop Road, Hillsborough vicinity, SG100009620

OHIO

Montgomery County

Steele's Hill-Grafton Hill Historic District (Boundary Increase), Roughly bounded by Grand, Plymouth, Forest, and Salem, Dayton, BC100009613

OKLAHOMA

Okfuskee County

Abe Lincoln Trading Company, North side of Main Street, 175 feet west of Clearview Road, Clearview, SG100009607

WASHINGTON

Thurston County

Tugboat Parthia, 650 Marina Drive, Olympia, SG100009615

WISCONSIN

La Crosse County

Oak Grove Cemetery, 1407 La Crosse Street, La Crosse, SG100009621

A request for removal has been made for the following resource(s):

INDIANA

Dearborn County

ELIZABETH LEA-JOSEPH THROCKMORTON (Towboat), 11042 St. Rd. 56, Lighthouse Point Yacht Club, Aurora vicinity, OT100004044

Hendricks County

Smith Farm, 2698 S Cty. Rd. 900 E, Plainfield vicinity, OT07001279

Additional documentation has been received for the following resource(s):

OHIO

Montgomery County

Steele's Hill-Grafton Hill Historic District (Additional Documentation) Roughly bounded by Grand, Plymouth, Forest, and Salem, Dayton, AD86001237

Authority: Section 60.13 of 36 CFR part 60.

Sherry A. Frear,
Chief, National Register of Historic Places/National Historic Landmarks Program.

[FR Doc. 2023-25828 Filed 11-21-23; 8:45 am]

BILLING CODE 4312-52-P